DEPARTMENT OF ENERGY

Federal Energy Regulatory Commission

[Project No. 2842-046]

Notice of Intent To Prepare an Environmental Assessment; City of Idaho Falls, Idaho

On December 2, 2024, supplemented on February 7, 2025, the City of Idaho Falls, Idaho, licensee for the Idaho Falls Hydroelectric Project, filed an application for a temporary variance from Article 40 of the project license. The project is located on the Snake River in Bonneville County, Idaho, and occupies federal lands administered by the Bureau of Land Management.

The licensee is requesting a temporary variance of the required minimum flow to the bypassed reach at the Upper Development Dam #1 under Article 40 of the project license, for the construction of a cofferdam to facilitate maintenance activities on the pelican gates. The variance would entail cessation of the required minimum flows to the bypass reach, of which approximately 1,100 feet would be dewatered from approximately July to early December 2025. The Commission filed the notice of application for filing, soliciting comments, motions to intervene, and protests for this variance request on February 28, 2025. The public comment period will close on March 31, 2025.

This notice identifies Commission staff's intention to prepare an environmental assessment (EA) for the project.¹ Commission staff plans to issue an EA by June 27, 2025. Revisions to the schedule may be made as appropriate.

¹ For tracking purposes under the National Environmental Policy Act, the unique identification number for documents relating to this environmental review is EAXX-019-20-000-1741252839.

The Commission's Office of Public Participation (OPP) supports meaningful public engagement and participation in Commission proceedings. OPP can help members of the public, including landowners, community organizations, Tribal members, and others to access publicly available information and navigate Commission processes. For public inquiries and assistance with making filings such as interventions, comments, or requests for rehearing, the public is encouraged to contact OPP at (202) 502-6595 or OPP@ferc.gov.

Any questions regarding this notice may be directed to Brian Bartos at brian.bartos@ferc.gov or 202-502-6679.

Dated: March 6, 2025.
Debbie-Anne A. Reese,
Secretary.

[FR Doc. 2025-03924 Filed 3-11-25; 8:45 am]

BILLING CODE 6717-01-P